ENVIRONMENTAL PROTECTION AGENCY

40 CFR Part 423

[EPA-HQ-OW-2009-0819; FRL-8794.3-05-OW]

RIN 2040-AG54

Effluent Limitations Guidelines and Standards for the Steam Electric Power Generating Point Source Category—Deadline Extensions; Correction

AGENCY: Environmental Protection Agency (EPA).

ACTION: Final rule; correction.

SUMMARY: The U.S. Environmental Protection Agency (the EPA or Agency) is issuing a notice to correct some of the deadlines listed in the final rule, “Effluent Limitations Guidelines and Standards for the Steam Electric Generating Point Source Category—Deadline Extensions,” which published in the Federal Register on December 31, 2025. After publication, the EPA became aware of post-signature typographical errors in the published regulatory text concerning compliance deadlines for pretreatment standards and related reporting recordkeeping requirements in the rule. This correction will ensure that the rule's compliance deadlines and reporting and recordkeeping deadlines match those in the version of the rule signed by the EPA Administrator.

DATES: Effective on March 2, 2026.

ADDRESSES: The EPA has established a docket for this action under Docket ID No. EPA-HQ-OW-2009-0819. All documents in the docket are listed on the https://www.regulations.gov website. Although listed in the index, some information is not publicly available, e.g., confidential business information (CBI) or other information whose disclosure is restricted by statute. Certain other material, such as copyrighted material, is not placed on the internet and will be publicly available only in hard copy form. Publicly available docket materials are available electronically through https://www.regulations.gov.

FOR FURTHER INFORMATION CONTACT: Richard Benware, Engineering and Science Division, Office of Water (Mail Code 4303T), Environmental Protection Agency, 1200 Pennsylvania Avenue NW; Washington, DC 20460; telephone number: 202-566-1369; email address: benware.richard@epa.gov. Information about the Steam Electric Effluent Limitations Guidelines and Standards (ELGs) is available online at: https://www.epa.gov/eg/steam-electric-power-generating-effluent-guidelines.

SUPPLEMENTARY INFORMATION: The final rule, “Effluent Limitations Guidelines and Standards for the Steam Electric Generating Point Source Category—Deadline Extensions,” which published in the Federal Register on December 31, 2025 (90 FR 61328), contained several typographical errors that were introduced during the publication process. These typographical errors, which appear in 40 CFR 423.16 and 423.19, pertain to compliance dates for achievement of certain pretreatment standards. These errors do not reflect the correct dates set forth in the rule, as signed by the EPA Administrator on December 23, 2025. This action ensures that the correct dates appear in the CFR. The Agency finds that it has good cause under section 553(b)(B) of the Administrative Procedure Act, 5 U.S.C. 553, to dispense with notice and comment on this correction because it is unnecessary, as the correction merely redresses a typographical error in the regulatory text made by OFR in the post-signature publication process. Moreover, as the correction is being made before the effective date of the Deadline Extensions Rule, there should be no confusion as to the applicable compliance dates.

Corrections

1. Effective March 2, 2026, in rule document 2025-24102 at 90 FR 61328 in the issue of December 31, 2025, on page 61353, in the second column, in amendatory instruction 3, paragraphs (e)(3), (g)(3), and (j)(1) are corrected to read as follows:

§ 423.16 [Corrected]

(e) * * *

(3) 2024 PSES. Except as provided for in paragraph (e)(4) of this section, for any electric generating unit with a total nameplate generating capacity of more than 50 megawatts and that is not an oil-fired unit:

(i) Dischargers must meet the standards in paragraph (e)(1) of this section by January 1, 2029. The standards in paragraph (e)(1) of this section apply to the discharge of FGD wastewater generated on and after January 1, 2029.

(ii) By the dates in paragraph (e)(3)(ii)(A) or (B) of this section there shall be no discharge of pollutants in FGD wastewater:

(A) January 2, 2029; or

(B) Where a certification statement has been submitted pursuant to § 423.19(p), December 31, 2034.

* * * * *

(g) * * *

(3) 2024 PSES. Except as provided for in paragraph (g)(4) of this section, for any electric generating unit with a total nameplate generating capacity of more than 50 megawatts and that is not an oil-fired unit:

(i) Dischargers must meet the standards in paragraph (g)(1) of this section by January 1, 2029. The standards in paragraph (g)(1) of this section apply to the discharge of bottom ash transport water generated on and after January 1, 2029.

(ii) By the dates in paragraph (g)(3)(ii)(A) or (B) of this section, there shall be no discharge of pollutants in bottom ash transport water:

(A) January 2, 2029; or

(B) Where a certification statement has been submitted pursuant to § 423.19(p), December 31, 2034.

* * * * *

(j) * * *

(1) 2024 PSES. Until and including the dates specified in paragraphs (j)(1)(i) and (ii), or paragraph (j)(2) of this section, the EPA is declining to establish PSES for combustion residual leachate and is reserving such standards to be established by the control authority on a case-by-case.

(i) Except for those discharges to which paragraph (j)(1)(ii) of this section applies, by the dates in paragraph (j)(1)(i)(A) or (B) of this section, there shall be no discharge of pollutants in combustion residual leachate:

(A) January 2, 2029; or

(B) Where a certification statement has been submitted pursuant to section 423.19(p), December 31, 2034.

(ii) After the retirement of all units at a facility, the quantity of pollutants in CRL shall not exceed the quantity determined by multiplying the flow of CRL permeate times the concentrations listed in the table 7 to § 423.13(g)(3)(i) or the flow of CRL distillate times the concentrations listed in the table in § 423.15(b)(13).

2. Effective March 2, 2026, in rule document 2025-24102 at 90 FR 61328 in the issue of December 31, 2025, on page 61354, in the first column, in amendatory instruction 5, paragraph (p) is corrected to read as follows:

§ 423.19 [Corrected]

(p) Requirements for facilities subject to zero discharge pretreatment standards for existing sources by 2034. For sources seeking to be subject to the second tier of the tiered standards in § 423.16(e)(3)(ii)(B), (g)(3)(ii)(B), or (j)(2)(i)(B), a certification statement shall be submitted to the control authority by January 1, 2029, stating that the facility has submitted a permit application, permit renewal application, or permit modification request to its permitting authority seeking an as soon as possible date for achieving the corresponding generally applicable zero discharge limitations in § 423.13(g)(4)(i), (k)(4)(i), or (l)(1)(i), subject to the considerations in § 423.11(t). Furthermore, the certification statement will include an affirmative statement that the facility will also cease its indirect discharge by the as soon as possible date determined in this permitting action.

* * * * *

Jessica L. Kramer,
Assistant Administrator.

[FR Doc. 2026-01913 Filed 1-29-26; 8:45 am]

BILLING CODE 6560-50-P